DEPARTMENT OF LABOR

Employment and Training Administration

[TA-W-61,995]

Kimberly-Clark Corporation Global Sales; Neenah, WI; Notice of Termination of Investigation

Pursuant to Section 221 of the Trade Act of 1974, as amended, an investigation was initiated on August 16, 2007 in response to a petition filed on behalf of workers of Kimberly-Clark Corporation Global Sales, Neenah, Wisconsin.

All workers of the subject firm are covered by a certification of eligibility to apply for worker adjustment assistance and alternative trade adjustment assistance under petition number TA-W-60,017, that does not expire until September 26, 2008.

Consequently, further investigation in this case would serve no purpose and the investigation under this petition has been terminated.

Signed at Washington, DC, this 20th day of August 2007.
Linda G. Poole,
Certifying Officer, Division of Trade Adjustment Assistance.

[FR Doc. E7-17041 Filed 8-28-07; 8:45 am]

BILLING CODE 4510-FN-P